DEPARTMENT OF HEALTH AND HUMAN SERVICES

Food and Drug Administration

[Docket No. 2003F-0471]

T&R Chemicals, Inc.; Filing of Food Additive Petition

AGENCY: Food and Drug Administration, HHS.

ACTION: Notice.

SUMMARY: The Food and Drug Administration (FDA) is announcing that T&R Chemicals, Inc., has filed a petition proposing that the food additive regulations be amended to provide for the safe use of glycerol ester of gum rosin to adjust the density of citrus oils used in the preparation of beverages.

FOR FURTHER INFORMATION CONTACT: Clarence W. Murray, III, Center for Food Safety and Applied Nutrition (HFS-265), Food and Drug Administration, 5100 Paint Branch Pkwy., College Park, MD 20740-3835, 202-418-3601.

SUPPLEMENTARY INFORMATION: Under the Federal Food, Drug, and Cosmetic Act (sec. 409 (b)(5) (21 U.S.C. 348(b)(5))) notice is given that a food additive petition (FAP 3A4749) has been filed by T&R Chemicals, Inc., c/o The Environ Health Sciences Institute, 4350 N. Fairfax Dr., suite 300, Arlington, VA 22203. The petition proposes to amend the food additive regulations in Part 172 Food Additives Permitted for Direct Addition to Food for Human Consumption (21 CFR part 172) to provide for the safe use of glycerol ester of gum rosin to adjust the density of citrus oils used in the preparation of beverages. The agency has determined under 21 CFR 25.32(k) that this action is of a type that does not individually or cumulatively have a significant effect on the human environment. Therefore, neither an environmental assessment nor an environmental impact statement is required.

Dated: September 25, 2003.
Laura M. Tarantino,
Deputy Director, Office of Food Additive Safety, Center for Food Safety and Applied Nutrition.

[FR Doc. 03-26267 Filed 10-16-03; 8:45 am]

BILLING CODE 4160-01-S